DEPARTMENT OF COMMERCE

National Oceanic and Atmospheric Administration

50 CFR Part 679

[Docket No. 020412085-2085-01; I.D. 022102B]

RIN 0648-AP66

Fisheries of the Exclusive Economic Zone Off Alaska; Electronic Reporting Requirements

AGENCY: National Marine Fisheries Service (NMFS), National Oceanic and Atmospheric Administration (NOAA), Commerce.

ACTION: Proposed rule; request for comments.

SUMMARY: NMFS issues a proposed rule to amend regulations governing the North Pacific Groundfish Observer Program (Observer program). This action is necessary to refine requirements for the facilitation of observer data transmission and improve support for observers. The proposed rule is intended to ensure continued timely transmission of high-quality observer data to support the management objectives of the Fishery Management Plan for the Groundfish Fishery of the Bering Sea and Aleutian Islands Area (BSAI) and the Fishery Management Plan for Groundfish of the Gulf of Alaska (groundfish FMPs) for those industry sectors already subject to such requirements. It would improve the timely transmission of high-quality observer data for a sector of catcher vessels in these fisheries.

DATES: Comments on this proposed rule must be received by August 26, 2002.

ADDRESSES: Comments should be sent to Sue Salveson, Assistant Regional Administrator for Sustainable Fisheries, Alaska Region, NMFS, P.O. Box 21668, Juneau, AK 99802, Attn: Lori Gravel, or delivered to the Federal Building, 709 West 9th Street, Juneau, AK. Copies of the Regulatory Impact Review/Initial Regulatory Flexibility Analysis (RIR/IRFA) prepared for this proposed regulatory action may be obtained from the same address. Send comments on information collection requests to NMFS and to OMB, Office of Information and Regulatory Affairs, Office of Management and Budget, Washington, DC 20503 (Attn: NOAA Desk Officer).

FOR FURTHER INFORMATION CONTACT: Bridget Mansfield, 907-586-7228.

SUPPLEMENTARY INFORMATION:

Background

NMFS manages the U.S. groundfish fisheries of the Gulf of Alaska and the Bering Sea and Aleutian Islands management areas in the Exclusive Economic Zone (EEZ) under the groundfish FMPs. The North Pacific Fishery Management Council (Council) prepared the FMPs under the authority of the Magnuson-Stevens Fishery Conservation and Management Act (Magnuson-Stevens Act). Regulations at 50 CFR part 679 implement the FMPs. General regulations that also pertain to U.S. fisheries appear at subpart H of 50 CFR part 600. Regulations implementing the interim Observer Program were published November 1, 1996 (61 FR 56425), amended December 30, 1997 (62 FR 67755) and December 15, 1998 (63 FR 69024), and extended through 2002 under a final rule published December 21, 2000 (65 FR 80381). The Observer Program provides for the collection of observer data necessary to manage the Alaska groundfish fisheries by providing information on total catch estimation, discard, prohibited species catch (PSC) and biological samples that are used for stock assessment purposes. The observers also provide information related to compliance with regulatory requirements.

The regulations implementing the Observer Program at § 679.50 require observer coverage aboard fishing vessels and shoreside processors that participate in the Alaska groundfish fisheries. Timely communication between the fishing industry and NMFS through catch reports submitted to NMFS by both industry and observers is crucial to the effective in-season monitoring of the groundfish quotas and PSC allowances. At its June 1995 meeting, the Council recommended that NMFS issue regulations that would require all catcher/processors, motherships, and shoreside processors that process groundfish to have computer hardware and software that would enable observers to send electronic data to NMFS. Catcher/processors and motherships were recommended to have satellite communications technology to allow transmission of the data from the vessel.

Regulations requiring electronic submission of observer reports were implemented in 1995 at § 679.50(f) for catcher/processors, motherships and shoreside processors through the application of an observer communications system (OCS), previously referred to as the “ATLAS” system. This system is composed of specified electronic hardware supplied by the vessel or shoreside processor and dedicated software provided by NMFS that together allow observers to communicate daily with NMFS, including transmitting data. This permits real-time data processing, improves timeliness of making data available to managers, and allows managers to assess daily activities of the fishing fleet. These data have led to fishery closures that more accurately reflect actual catch levels and facilitate conservation and optimal management of this valuable living marine resource.

In a letter dated February 7, 2000, NMFS informed the Council that the agency intended to initiate rulemaking that would implement upgrades in the specifications for required hardware and software that support the OCS, and would extend these requirements to some catcher vessels. At its February 2000 meeting, the Council noted its support for this initiative.

NMFS proposes to require operations already subject to OCS requirements to adopt hardware upgrades to meet current technology standards necessary to support the OCS software and to require hardware installed in vessels to be maintained in a functional mode. NMFS further proposes to exclude some catcher vessels from the requirements, thereby amending an error in the final rule implementing the 1995 OCS requirements, which erroneously included all catcher vessels. This proposed rule would, however, require all catcher vessels required to carry observers during 100 percent of their fishing days to comply with the regulations at § 679.50(f) governing the installation and maintenance of necessary equipment supporting the OCS system.

Hardware Upgrades. Current regulations stipulate that any vessel required to carry one or more observers must facilitate transmission of observer data to NMFS by providing equipment consisting of a computer and communications equipment that meet certain specifications. Hardware requirements specified in these regulations to support OCS were considered state of the art at the time they were implemented in 1995. Computer technology has advanced at a rapid rate since then. As a result, the current minimum hardware requirements are technologically out of date and are difficult to maintain or even obtain. The OCS software application developed by NMFS to effect at-sea communication with observers has been updated recently to be more effective and now requires more powerful computers on which to run. Requiring the updated hardware is necessary to meet current technology standards.

Included in this hardware update is a requirement that allowable communications equipment provide point-to-point communications, which is a necessary function to support all of the operations that OCS requires. A point-to-point communications system allows the computer with OCS software to connect directly to the NMFS host computer and modem. Point-to-point communication connections would allow direct confidential communication between NMFS and observers, which has been shown to be necessary for effective problem solving in various at-sea situations. Examples of communication systems that provide point to point communications are INMARSAT Standard-A, Standard-B, mini-M, and Iridium. Vessels using INMARSAT Standard C terminals and associated software to transmit data, which are allowed under current regulations, do not provide point-to-point communication connections and would not meet the hardware requirement proposed in this rule. The inability of INMARSAT Standard C to allow observers and NMFS to maintain secure communications without interfacing with vessel personnel is of particular concern.

Functionality. Current regulations requiring the communications equipment aboard vessels to support OCS do not require that the hardware be functional. The equipment would be considered functional when specified equipment aboard a vessel can initiate a data transmission to a device, such as a satellite, that provides a point-to-point communication connection with minimum specifications outlined in the regulations. The vessel would not be responsible for ensuring the actual reception of the data by the satellite or other device. Regulations for shoreside processor communication equipment do require the equipment to be maintained in a functional mode.

The inadvertent omission of an equipment functionality requirement for vessels has resulted in NMFS’ lack of ability to receive electronic observer data from up to nine catcher processors (approximately 10 percent of all catcher processors required to have this equipment) that have not properly installed or maintained the communications equipment. Additionally, other vessels have taken up to 7 months to repair or complete initial installation of functional equipment. This has compromised in-season monitoring of harvest quotas and has resulted in or contributed to events leading to quotas being exceeded. Therefore, NMFS proposes to amend the regulations to require that equipment be functional.

Catcher Vessels Requirements. Current regulations stipulate that any vessel required to carry one or more observers must facilitate transmission of observer data to NMFS by providing equipment meeting specifications outlined by regulations cited above. The original intent of the regulations was to apply these requirements to all catcher/processors, motherships, and shoreside processors subject to observer coverage requirements. Catcher-only vessels were not intended to be included in these requirements. The proposed rule for implementing these regulations (60 FR 45393, August 31, 1995) and the preamble to the final rule (61 FR 63759, December 2, 1996) correctly reflect the original intent to restrict the requirements to catcher/processor vessels, motherships, and shoreside processors. However, the regulatory language in the final rule incorrectly extends the regulations to all vessels subject to observer coverage, including all catcher vessels. This proposed rule would correct that error by amending the requirement so that it would not include indiscriminately all catcher vessels but would require all catcher vessels that are required to maintain 100-percent observer coverage as specified in regulations at § 679.50(c)(1)(iv) to install and maintain hardware and software supporting the OCS communications system as amended in this proposed rule.

Prior to 2000, all shoreside harvest data from processors were faxed to NMFS in a weekly production report. Weekly submission of these reports roughly matched the availability of observer data from shoreside processors. In 2000, an electronic reporting system (distinct from OCS) was implemented to replace the weekly production report. Daily electronic reports from shoreside processors of shoreside deliveries provide NMFS with landings information within one day of a delivery. This allows for partial real-time management of the groundfish species such as pollock that are specifically allocated to the inshore sector or of harvest restrictions specific to catcher vessels under the American Fisheries Act sideboard provisions. However, availability to NMFS of observer PSC and discard data for a given delivery does not match the timeliness of the landings data.

The necessary timely monitoring for in-season management of PSC and discard data is not possible under the observer data reporting system currently used by catcher vessels delivering to inshore processors. Shoreside catcher vessel observers opportunistically transmit data via fax to NMFS from a shoreside processor, which can be between 5 and 14 days after a given haul is made. This delay is caused in part by the fact that an observer usually must return to sea immediately upon completion of the delivery, leaving no time for the observer to compile data into a format appropriate for fax transmission to NMFS, most often several hours worth of work. Once received by NMFS, the faxed data subsequently must be hand entered into an electronic database, further delaying the availability to in-season managers. Even if a catcher vessel observer had time available for data compilation and transmission from the shoreside processor, logistical problems remain. Shoreside processors do support OCS communication systems for transmission of observer data. However, OCS software on these systems is designed specifically for shoreside processor applications and does not support observer data collected at sea. While the shoreside system could be adapted to support data collected by vessel observers, other logistical problems prevent reliable use of these systems by catcher vessel observers. These difficulties include vessel observers having to return to sea prior to data input and transmission via the OCS communications system, as well as the lack of reliance on access to shoreside computers and communications equipment that support the OCS system. Offices that house this equipment at the shoreside processors generally are not open 24 hours a day, while deliveries may be completed at any time during the day.

Installation of OCS software, in combination with point-to-point modem communication capability aboard shoreside catcher vessels would allow daily electronic transmission of catch data. This would provide NMFS with observer data from catcher vessels within 24 hours of receiving their delivery reports from the shoreside processor. At-sea discards and PSC could then be accounted for together with the landings data in real-time for each OCS-equipped vessel. Such real-time, in-season management would be expected to result in fisheries closures that better approximate actual quotas.

Additionally, observer data quality problems can have a significant impact on PSC estimates and fishery closure projections. Resulting management errors can include early closure of a fishery, which results in direct lost revenue to the fleet, or over-harvest of a PSC fishery allowance, which can impact other fisheries as the total annual PSC limit is reached.

The OCS program provides several advantages and improvements to NMFS’ current management systems which result in higher quality data. These include:

Improved data recording efficiency. Observers using OCS initially record data on deck forms. These data are then entered into the vessel's computer and sent electronically to NMFS. Data received by NMFS are automatically screened for errors and may be accessed by users in a database in a timely manner. Without OCS, data are transcribed from deck forms to paper and faxed to NMFS for subsequent electronic entry. Less paperwork provides observers with more time to dedicate to sampling.

Consistent, secure communications with observer program staff and a reduction in the overall frequency of errors. OCS communications allow NMFS to assign to each deployed observer an in-season advisor who screens data for errors and advises the observer throughout their deployment, resulting in improved observer performance and a reduction in errors. The quality of timely data available for in-season management decisions is thus greatly improved.

Faster, more efficient, and higher quality debriefing. The OCS application automatically screens out many potential data errors at the point of entry. These data are further screened by the in-season advisor, and all data are again screened by computer programs and corrected at the point of debriefing. These processes eliminate hand checking of paper data forms, further reducing debriefing time and allowing for faster availability of the final data.

Installation and maintenance of OCS aboard catcher vessels requiring 100-percent observer coverage would eliminate 1,100 faxed observer reports and the associated processing per year. Availability of timely data on PSC by this sector of the fleet, which is largely made up of American Fisheries Act-qualified catcher vessels that are members of inshore cooperatives, would improve in-season management of the BSAI pollock and Pacific cod trawl fisheries. In the BSAI pollock trawl fishery, salmon and herring PSC are of concern, and in the BSAI Pacific cod trawl fishery, halibut bycatch is of concern. Although the few Pacific cod trawl fishery closures that have occurred since 1998 have been based primarily on TACs being reached, prior to 1998, BSAI Pacific cod trawl fishery closures were based on halibut bycatch allowances being caught before the TAC was reached. Improved timeliness of PSC data transmission would allow NMFS resources to be reallocated to processing faxed data received from observers aboard vessels that are subject to 30-percent coverage requirements. Overall, this would result in the expedited availability to managers and improved quality of all in-season data from all catcher vessels in the BSAI and the Gulf of Alaska (GOA). This timely information is also of benefit to industry through access via NMFS web sites. Fleets coordinate their activity to avoid bycatch hot spots, reducing costly PSC closures. This can only work where rapid access to the information is available.

Additional need for more timely harvest data from catcher vessels comes from management measures implemented to temporally and spatially disperse some groundfish fisheries in near shore areas of the EEZ off Alaska (67 FR 956, January 8, 2002). These measures were developed in response to a Biological Opinion initiated as part of a formal consultation under section 7 of the Endangered Species Act on the impact of federally managed groundfish fisheries on endangered Steller sea lions in Alaska. The measures involve some time-area restrictions for the pollock, Pacific cod and Atka mackerel fisheries including harvest limits in Steller sea lion critical habitat. To ensure compliance with these measures, levels of groundfish harvest must be monitored on a real-time basis.

Catcher vessels delivering to catcher/processors and motherships deliver unsorted codends with no fish retained aboard the catcher vessel. They, therefore, require no observer coverage. These catcher vessels would not be required to install and maintain the OCS on board. Catcher vessels greater than 60 ft (18.3 m) LOA fishing for groundfish using pot gear are subject to 30-percent observer coverage during a calendar quarter and would therefore be unaffected by this proposed rule.

Shoreside Processor Requirements. Shoreside processor responsibilities are clarified. Specifically, all shoreside processors required to maintain observer coverage at any time during the year are also required to install and maintain electronic reporting equipment—hardware and software—as specified in the rule.

Classification

This proposed rule has been determined to be significant for purposes of Executive Order 12866.

NMFS prepared an RIR/IRFA, which describes the impact this proposed rule would have on small entities, if adopted.

An estimated five to 10 catcher/processors or motherships vessels would be required to upgrade their computers to meet the requirements in this proposed rule. Current market prices for a reliable computer at this level are about $800. An estimated 22 vessels would be required to upgrade their communications systems from INMARSAT Standard C communications hardware and would have to choose between Standard B hardware at about $20,000 per unit, Mini-M hardware at about $4,500, or Iridium at $2,200. The initial investment from all catcher processors and motherships required by these proposed requirements would be approximately $56,000, with annual maintenance and data transmission savings of $1,000. These savings relate to aggregate maintenance and data transmission costs for the catcher/processor or mothership class of vessels. The net savings of about $1,000 represent aggregate data transmission savings of about $2,263 minus aggregate additional annual maintenance costs of about $1,208.

Of the 27 shoreside processors that would be subject to requirements in this proposed rule, 15 are estimated to already be capable of using the new system. Eleven of the remaining shoreside processors need to install both the computer and the communications system; one shoreside processor needs to upgrade its computer. The initial investment from this sector as a whole would be approximately $34,000, with little change in annual maintenance and data transmission costs.

Assuming that none of the 31 catcher vessels required to carry an observer for 100 percent of their fishing days have installed the necessary communications equipment, but that approximately 30 percent of them have computers compatible with OCS specifications, the initial investment from this sector as a whole would be approximately $86,000, with annual maintenance and data transmission costs of about $19,000.

Catcher vessels requiring 30-percent observer coverage that deliver to shoreside processors would not be required by this proposed rule to install and maintain hardware and software needed to support the OCS. Although catcher vessels are not covered, had they been included in these requirements, the estimated initial investment from this sector as a whole would have been approximately $311,000, with annual maintenance and data transmission costs of $9,000. The $9,000 cost figure would have represented the aggregate cost for maintenance on catcher vessels requiring 30-percent observer coverage. Because the proposed rule does not apply to such catcher vessels, these costs are not incurred.

However, the benefits of real-time data reporting that the OCS would afford are significant. More timely availability of halibut PSC data from the GOA deep and shallow trawl complexes, as well as from the GOA Pacific cod hook-and-line gear fishery, is needed to improve the accuracy of those fisheries’ closures. Catcher vessels subject to 30-percent observer coverage requirements are a considerable component of the fleets in these fisheries. Closures in the flatfish trawl fisheries in the GOA are based entirely on halibut caps being reached, and the lack of timely halibut bycatch data is a significant contributor to GOA trawl halibut mortality caps being frequently exceeded. The GOA Pacific cod hook-and-line gear fishery closures have been based on halibut caps, but those caps are often reached nearly concurrently with the TAC. However, availability of observer halibut bycatch data in this fishery is critical, because a significant portion of this fleet is less than 60 ft (18.3 m) LOA, and therefore not subject to any observer coverage.

NMFS is seeking to eventually fully implement electronic reporting of observer data fleet-wide for those operations subject to observer coverage requirements in a practicable manner. Methods to implement this will be considered in the next few years. Options for consideration will include equipping observers with their own laptop computers or other electronic devices capable of supporting the OCS software, as well as options for linking the observer OCS with electronic logbook reporting requirements that are currently being considered for fleet-wide implementation. NMFS is specifically seeking comments on this issue.

An Initial Regulatory Flexibility Analysis (IRFA) was conducted in accordance with the Regulatory Flexibility Act of 1980 (RFA) and the Small Business Regulatory Enforcement Fairness Act of 1996.

In the IRFA, the proposed alternatives could affect the following estimated numbers of small regulated entities: 38 small catcher/processors, no motherships, 5 processing plants, 31 catcher vessels with 100-percent observer coverage, 389 catcher vessels with 30-percent observer coverage, and 6 community development quota groups representing 65 western Alaska communities. The preferred alternative, Alternative C, would affect 38 small catcher/processors, no motherships, 5 processing plants, 31 catcher vessels with 100-percent observer coverage, and no catcher vessels with 30-percent observer coverage.

Under the preferred alternative (Alt. C), small catcher/processors would incur average investment expenses equal, on average, to about 0.2 percent of one year’s gross revenues, and no additional annual operating expenses. Small catcher vessels required to have 100-percent coverage would incur average investment expenses equal, on average, to about 0.3 percent of one year’s gross revenues and average annual expenditures equal to about 0.1 percent of a year’s gross revenues. Small shoreside processors would incur average investment expenses equal to about 0.1 percent of annual gross revenues, and no significant additional expenses. The CDQ groups would be affected by the investments and joint ventures in catcher/processors, catcher vessels, and shoreside plants. The impacts on these entities were described above.

The RFA requires that the IRFA describe significant alternatives to the proposed rule that accomplish the stated objectives of the applicable statutes and minimize any impact on small entities. The IRFA must discuss significant alternatives to the proposed rule such as (1) establishing different reporting requirements for small entities that take into account the resources available to small entities; (2) consolidating or simplifying reporting requirements; (3) using performance rather than design standards; and (4) allowing exemptions from coverage for small entities.

An additional alternative that would have further reduced the burden on small entities was considered for implementation but was rejected. This alternative would have increased data entry staff at NMFS to ensure speedier input of faxed data into the electronic database for availability to in-season managers. However, this alternative would not sufficiently address the timeliness of data availability and could not match the inherent data quality control of the OCS.

Additionally, the overall implementation of the Interim Observer Program includes measures that minimize the significant economic impacts of observer coverage requirements on at least some small entities. Vessels less than 60 ft (18.3 m) LOA are not required to carry an observer while fishing for groundfish. Similarly, vessels 60 ft (18.3 m) and longer, but less than 125 ft (38.1 m) LOA, have lower levels of observer coverage than those 125 ft (38.1 m) LOA and above. These requirements, which have been incorporated into the requirements of the North Pacific Groundfish Observer Program since its inception in 1989, effectively mitigate the economic impacts on some small entities without significantly adversely affecting the implementation of the conservation and management responsibilities under the Magnuson-Stevens Act. A copy of this analysis is available from NMFS (see ADDRESSES).

This proposed rule contains a collection-of-information requirement subject to the Paperwork Reduction Act. The collection of this information has been approved by the Office of Management and Budget, OMB Control Number 0648-0318.

Notwithstanding any other provision of the law, no person is required to respond to, and no person shall be subject to penalty for failure to comply with, a collection of information subject to the requirements of the PRA, unless that collection of information displays a currently valid OMB control number. Send comments regarding this burden estimate, or any other aspect of this data collection, including suggestions for reducing the burden, to NMFS and OMB (see ADDRESSES).

List of Subjects in 50 CFR part 679

Alaska, Fisheries, Reporting and recordkeeping requirements.

Dated: July 19, 2002.
Rebecca Lent
Deputy Assistant Administrator for Regulatory Programs, National Marine Fisheries Service.

For the reasons set out in the preamble, 50 CFR part 679 is proposed to be amended as follows:

PART 679—FISHERIES OF THE EXCLUSIVE ECONOMIC ZONE OFF ALASKA

1. The authority citation for part 679 continues to read as follows:

Authority: 16 U.S.C. 773 et seq., 1801 et seq., and 3631 et seq.

2. In § 679.50, paragraphs (f)(1)(iii)(A), (f)(1)(iii)(B), (f)(1)(iii)(C), (f)(2) introductory text, (f)(2)(iii)(B), and (f)(2)(iii)(C) are revised and paragraph (f)(3) is added to read as follows:

§ 679.50 Groundfish Observer Program applicable through December 31, 2002.

* * * * *

(f) * * *

(1) * * *

(iii) * * *

(A) Observer use of equipment. Allowing NMFS-certified observers to use the vessel’s communications equipment and personnel, on request, for the confidential entry, transmission, and receipt of work-related messages, at no cost to the NMFS-certified observers or the nation.

(B) Communication equipment requirements. In the case of an operator of a catcher/processor or mothership that is required to carry one or more observers, or a catcher vessel required to carry an observer as specified in paragraph (c)(1)(iv) of this section:

(1) Hardware and software. Making available for use by the observer a personal computer in working condition that contains a full Pentium 120 Mhz or greater capacity processing chip, at least 32 megabytes of RAM, at least 75 megabytes of free hard disk storage, a Windows 9x or NT compatible operating system, an operating mouse, and a 3.5-inch (8.9 cm) floppy disk drive. The associated computer monitor must have a viewable screen size of at least 14.1 inches (35.8 cm) and minimum display settings of 600 x 800 pixels. The computer equipment specified in paragraph (f)(1)(iii)(B) of this section must be connected to a communication device that provides a point-to-point modem connection to the NMFS host computer and supports one or more of the following protocols: ITU V.22, ITU V.22bis, ITU V.32, ITU V.32bis, or ITU V.34. Processors utilizing a modem must have at least a 28.8kbs Hayes-compatible modem.

(2) NMFS-Supplied software. Ensuring that the catcher/processor, mothership, or catcher vessel specified in paragraph (f)(1)(iii)(B) of this section obtains and has installed the data entry software provided by the Regional Administrator for use by the observer.

(C) Functional and operational equipment. Ensuring that the communications equipment required at paragraph (f)(1)(iii)(B) of this section, and that is used by observers to enter and transmit data, is fully functional and operational, where “functional” means that data transmissions to NMFS can be initiated effectively aboard the vessel by such communications equipment.

* * * * *

(2) Shoreside processor responsibilities. A manager of a shoreside processor that is required to maintain observer coverage as specified under (d) of this section must:

(iii) * * *

(B) Communication equipment requirements—(1) Hardware and software. Making available for use by the observer a personal computer, in working condition, with a full Pentium 120 Mhz or greater capacity processing chip, at least 32 megabytes of RAM, at least 75 megabytes of free hard disk storage, a Windows 9x or NT compatible operating system, an operating mouse, and a 3.5-inch (8.9 cm) floppy disk drive. The associated computer monitor must have a viewable screen size of at least 14.1 inches (35.8 cm) and minimum display settings of 600 x 800 pixels. The computer equipment specified in this paragraph must be connected to a communication device that provides a point-to-point modem connection to the NMFS host computer and supports one or more of the following protocols: ITU V.22, ITU V.22bis, ITU V.32, ITU V.32bis, or ITU V.34. Processors utilizing a modem must have at least a 28.8kbs Hayes-compatible modem.

(2) NMFS-supplied software. Ensuring that the shoreside processor obtains and installs the data entry software provided by the Regional Administrator for use by the observer.

(C) Functional and operational equipment. Ensuring that the communications equipment required at paragraph (f)(2)(iii)(B) of this section and that is used by observers to enter and transmit data, is fully functional and operational, where functional means that data transmissions to NMFS can be initiated effectively by that equipment.

* * * * *

(3) The owner of a vessel, shoreside processor, or buying station is responsible for compliance and must ensure that the operator or manager of a vessel or shoreside processor required to maintain observer coverage under paragraphs (c) or (d) of this section complies with the requirements given in paragraphs (f)(1) and (f)(2) of this section.

* * * * *

[FR Doc. 02-18862 Filed 7-24-02; 8:45 am]

BILLING CODE 3510-22-S